FEDERAL COMMUNICATIONS COMMISSION

47 CFR Part 73

[DA 03-3870; MB Docket No. 03-245; RM-10826]

Radio Broadcasting Services; Durant, OK, and Whitewright, TX

AGENCY: Federal Communications Commission.

ACTION: Proposed rule.

SUMMARY: This document requests comments on a petition for rulemaking filed by NM Licensing LLC, licensee of Station KLAK(FM), Channel 248C2, Durant, Oklahoma. The petition proposes to reallot KLAK(FM) from Durant, Oklahoma, to Whitewright, Texas, and to provide Whitewright with its first local aural transmission service. The coordinates for requested Channel 248C2 at Whitewright, Texas are 33-30-55 NL and 96-24-16 with a site restriction of 1.2 kilometers (0.7 mile) west of Whitewright.

Petitioner's reallotment proposal complies with the provisions of section 1.420(i) of the Commission's Rules, and therefore, the Commission will not accept competing expressions of interest in the use of Channel 248C2 at Whitewright, Texas, or require the petitioner to demonstrate the availability of an additional equivalent class channel.

DATES: Comments must be filed on or before January 30, 2004, and reply comments on or before February 17, 2004.

ADDRESSES: Secretary, Federal Communications Commission, 445 12th Street SW., Room TW-A325, Washington, DC 20554. In addition to filing comments with the FCC, interested parties should serve the petitioners' counsel, as follows: Joseph A. Belisle, Esq., Leibowitz & Associates, PA; One Southeast Third Avenue, Suite 1450; Miami, Florida 33131; and Mark N. Lipp, Esq. and J. Thomas Nolan, Esq., Vinson & Elkins, LLP; 1455 Pennsylvania Avenue, NW., Washington, DC 20004-1008.

FOR FURTHER INFORMATION CONTACT: R. Barthen Gorman, Media Bureau, (202) 418-2180.

SUPPLEMENTARY INFORMATION: This is a synopsis of the Commission's Notice of Proposed Rule Making, MB Docket No. 03-245, adopted December 3, 2003, and released December 8, 2003. The full text of this Commission decision is available for inspection and copying during regular business hours in the FCC's Reference Information Center at Portals II, 445 12th Street SW., CY-A257, Washington, DC 20554. This document may also be purchased from the Commission's duplicating contractors, Qualex International, Portals II, 445 12th Street SW., Room CY-B402, Washington, DC 20554, telephone (202) 863-2893, facsimile (202) 863-2898, or via e-mail qualexint@aol.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, broadcasting.

For the reasons discussed in the preamble, the Federal Communications Commission proposes to amend 47 CFR part 73 as follows:

PART 73—RADIO BROADCAST SERVICES

1. The authority citation for part 73 continues to read as follows:

Authority: 47 U.S.C. 154, 303, 334, and 336.

§ 73.202 [Amended]

2. Section 73.202(b), the Table of FM Allotments under Oklahoma, is amended by removing Channel 248C2 at Durant.

3. Section 73.202(b), the Table of FM Allotments under Texas, is amended by adding Whitewright, Channel 248C2.

Federal Communications Commission.
John A. Karousos,
Assistant Chief, Audio Division Media Bureau.

[FR Doc. 03-31605 Filed 12-22-03; 8:45 am]

BILLING CODE 6712-01-P